DEPARTMENT OF ENERGY

Federal Energy Regulatory Commission

[Docket No. RP01-292-006]

Mississippi River Transmission Corporation; Notice of Report of Refunds

March 27, 2002.

Take notice that on March 22, 2002, Mississippi River Transmission Corporation (MRT) tendered for filing a report of refunds pursuant to § 154.501 of the Commission's Regulations, 18 CFR 154.501.

MRT states that the purpose of this filing is to report the refunds that resulted from the Period One Settlement Rates for Firm Storage Service (FSS) customers for the period October 1, 2001, the effective date of the settlement rates, through December 31, 2001.

Any person desiring to protest said filing should file a protest with the Federal Energy Regulatory Commission, 888 First Street, NE., Washington, DC 20426, in accordance with section 385.211 of the Commission's Rules and Regulations. All such protests must be filed on or before April 3, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-7895 Filed 3-29-02; 8:45 am]

BILLING CODE 6717-01-P